DEPARTMENT OF DEFENSE

Department of the Army; Corps of Engineers

Intent To Prepare a Draft Environmental Impact Statement for the West Onslow Beach and New River Inlet (Topsail Beach) Shore Protection Project, Pender County, NC

AGENCY: Department of the Army, U.S. Army Corps of Engineers, DoD.

ACTION: Notice of intent.

SUMMARY: The Town of Topsail Beach is located on Topsail Island, a barrier island on North Carolina's central coast. The town has experienced severe erosion of the ocean shoreline, high vulnerability to storm overwash, and damage to numerous structures due to erosion and storms. The Water Resources Development Act (WRDA) of 1992 authorized a Federal Shore Protection Project to address these problems, but the project has not been constructed. The authorized project and the remaining ocean shoreline at Topsail Beach are now undergoing reevaluation studies to provide a basis for a decision regarding continuation of Federal participation for the design and construction of the project. These studies will be documented in a General Reevaluation Report (GRR) accompanied by an Environmental Impact Statement (EIS).

FOR FURTHER INFORMATION CONTACT: Questions about the proposed action and Draft Environmental Impact Statement (DEIS) can be answered by Ms. Jenny Owens; Environmental Resources Section; U.S. Army Engineer District, Wilmington; Post Office Box 1890; Wilmington, NC 28402-1890; telephone: (910) 251-4757.

SUPPLEMENTARY INFORMATION: WRDA of 1992 authorized the implementation of the West Onslow Beach and New River Inlet (Topsail Beach) Shore Protection Project, as described in the report of the Chief of Engineers dated November 19, 1991. However, the plan recommended for construction was not the National Economic Development (NED) plan, which would have provided a storm dune and beach, a rock terminal groin, and periodic beach nourishment. The rock groin was unacceptable to the State of North Carolina due to its inconsistency with hard structure rules of the Coastal Management Program. Therefore, the recommended plan did not include a groin and, instead, provided for more frequent beach nourishment to offset the sand retention that would have been provided by a groin. The recommended plan extended over a distance of approximately 3.6 miles along the oceanfront at the southern end of Topsail Beach and included a dune with a crest elevation of 13 feet above mean sea level (msl) fronted by a storm berm at elevation 9 feet msl and a beach berm at elevation 7 feet msl.

Reevaluation studies will address the currently authorized project and the remaining shoreline at Topsail Beach. The principal purpose of a Federal project would be the reduction of damages associated with hurricane and storm events and beach erosion. Potential benefits from the project would include protection of the town's structures and related infrastructure (i.e., roads, utility lines, etc.), as well as improvements in aesthetic qualities and recreational opportunities at the beach.

The GRR studies will evaluate several alternatives to address shore protection and related issues at Topsail Beach. These alternatives may include: (1) Construction of berms and dunes along all or portions of the oceanfront within the study area; (2) Removal and/or relocation of structures; and (3) No Federal action. The maximum potential project length is approximately 4.6 miles (i.e., from the Topsail Beach-Surf City town limits to New Topsail Inlet). The selection of final project features and reaches for inclusion in a recommended plan will be based on a maximization of new benefits.

During the GRR, potential estuarine, inlet, offshore, and upland sources of borrow material will be investigated, and quantities of sand required for berm and dune construction will be determined. Estimated sand volumes and placement frequency for project maintenance will also be developed.

Alternative methods of beach nourishment and dredging of offshore borrow areas will also be evaluated, including the use of an ocean-certified hydraulic pipeline or hopper dredge.

All private parties and Federal, State, and local agencies having an interest in the study are hereby notified of the study and are invited to comment at this time. A scoping letter requesting input to the study was sent to all known interested parties on February 14, 2001.

A formal scoping meeting is not planned at this time but may be held if it is determined that new information could be obtained that would not otherwise be available. All comments received as a result of this notice of intent and the previous scoping letter will be considered in the preparation of the DEIS.

Significant environmental resources to be addressed during project studies and in the DEIS include: (1) Endangered and threatened species; (2) Marine and estuarine resources; (3) Fish and wildlife and their habitats, including essential fish habitat; (4) Water quality; (5) Socioeconomic resources; and (6) Cultural resources. Efforts will be made to enhance resource conditions and minimize adverse impacts.

The lead agency for this project is the U.S. Army Corps of Engineers District, Wilmington. Cooperating agency status has not been assigned to any other agency. The DEIS is being prepared in accordance with the requirements of the National Environmental Policy Act of 1969, as amended, and will address the relationship of the proposed action to all other applicable Federal and State Laws and Executive Orders. The DEIS is currently scheduled for distribution to the public in the summer of 2004.

Dated: December 2, 2003.
W. Eugene Tickner, P.E.,
Deputy District Engineer, Programs and Project Management.

[FR Doc. 03-31339 Filed 12-18-03; 8:45 am]

BILLING CODE 3710-CE-M